Executive Order 14041 of September 3, 2021

White House Initiative on Advancing Educational Equity, Excellence, and Economic Opportunity Through Historically Black Colleges and Universities

By the authority vested in me as President by the Constitution and the laws of the United States of America, and in order to advance equity in economic and educational opportunities for all Americans, including Black Americans, strengthen the capacity of Historically Black Colleges and Universities (HBCUs) to provide the highest-quality education, increase opportunities for these institutions to participate in and benefit from Federal programs, and ensure that HBCUs can continue to be engines of opportunity, it is hereby ordered as follows:

Section 1. Policy. HBCUs have a proud history and legacy of achievement. In the face of discrimination against Black Americans by many institutions of higher education, HBCUs created pathways to opportunity and educational excellence for Black students throughout our Nation. That legacy continues. Today, more than 100 HBCUs, located in 19 States, the District of Columbia, and the U.S. Virgin Islands, serve nearly 300,000 students annually. HBCUs vary in size and academic focus and serve a range of diverse students and communities in urban, rural, and suburban settings.

HBCUs play a vital role in providing educational opportunities, scholarly growth, and a sense of community for students. HBCU graduates are barrier-breaking public servants, scientists, artists, lawyers, engineers, educators, business owners, and leaders. For generations, HBCUs have been advancing intergenerational economic mobility for Black families and communities, developing vital academic research, and making our country more prosperous and equitable. HBCUs are proven means of advancement for people of all ethnic, racial, and economic backgrounds, especially Black Americans. HBCUs produce nearly 20 percent of all Black college graduates and 25 percent of Black graduates who earn degrees in the disciplines of science, technology, engineering, and math.

HBCUs' successes have come despite many systemic barriers to accessing resources and opportunities. For example, compared to other higher education institutions, on average HBCUs educate a greater percentage of lower-income, Pell-grant eligible students, while receiving less revenue from tuition and possessing much smaller endowments. Disparities in resources and opportunities for HBCUs and their students remain, and the COVID-19 pandemic has highlighted continuing and new challenges. These challenges include addressing the need for enhanced physical and digital infrastructure in HBCU communities and ensuring equitable funding for HBCUs as compared to other institutions of higher education. The Federal Government must promote a variety of modern solutions for HBCUs, recognizing that HBCUs are not a monolith, and that the opportunities and challenges relevant to HBCUs are as diverse as the institutions themselves and the communities they serve.

It is the policy of my Administration to advance educational equity, excellence, and economic opportunity in partnership with HBCUs, and to ensure that these vital institutions of higher learning have the resources and support to continue to thrive for generations to come.

Sec. 2. White House Initiative on Advancing Educational Equity, Excellence, and Economic Opportunity through Historically Black Colleges and Universities. (a) In furtherance of the policy set out in section 1 of this order, there is established in the Department of Education (Department), the White House Initiative on Advancing Educational Equity, Excellence, and Economic Opportunity through Historically Black Colleges and Universities (Initiative), led by an Executive Director designated by the President and appointed consistent with applicable law. The Executive Director shall manage the day-to-day operations of the Initiative, in consultation with the Assistant to the President and Director of the White House Office of Public Engagement as appropriate, and coordinate with senior officials across the Executive Office of the President, who shall lend their expertise and advice to the Initiative.

(b) The Initiative, in coordination with senior officials across the Executive Office of the President, shall provide advice to the President on advancing equity, excellence, and opportunity at HBCUs and for the communities they principally serve by coordinating a Government-wide policymaking effort to eliminate barriers HBCUs face in providing the highest-quality education to a growing number of students. The Initiative's recommendations shall include advice on advancing policies, programs, and initiatives that further the policy set out in section 1 of this order.

(i) To support implementation of this Government-wide approach to breaking down systemic barriers for HBCU participation in Federal Government programs, the Director of the Office of Management and Budget and the Assistant to the President for Domestic Policy shall coordinate closely with the Secretary of Education (Secretary), the Assistant to the President and Director of the White House Office of Public Engagement, the Executive Director, and the Chair of the President's Board of Advisors on HBCUs (as established in section 3 of this order) to ensure that the needs and voices of HBCUs, their faculty, staff, students, alumni, and the communities they principally serve are considered in the efforts of my Administration to advance educational equity, excellence, and opportunity.

(ii) The Initiative shall also perform the following specific functions:

(A) supporting implementation of the HBCU Propelling Agency Relationships Towards a New Era of Results for Students Act (Public Law 116-270) (PARTNERS Act);

(B) working closely with the Executive Office of the President on key Administration priorities related to advancing educational equity, excellence, and economic opportunity through HBCUs, in partnership with HBCU leaders, representatives, students, and alumni;

(C) working to break down barriers and expand pathways for HBCUs to access Federal funding and programs, particularly in areas of research and development, innovation, and financial and other support to students;

(D) strengthening the capacity of HBCUs to participate in Federal programs, access Federal resources, including grants and procurement opportunities, and partner with Federal agencies;

(E) advancing and coordinating efforts to ensure that HBCUs can respond to and recover from the COVID-19 pandemic and thoroughly support students' holistic recovery, from academic engagement to social and emotional wellbeing;

(F) developing new and expanding pre-existing national networks of individuals, organizations, and communities to share and implement administrative and programmatic best practices related to advancing educational equity, excellence, and opportunity at HBCUs;

(G) fostering sustainable public-private and philanthropic partnerships as well as private-sector initiatives to promote centers of academic research and program excellence at HBCUs;

(H) strengthening capacity to improve the availability, dissemination, and quality of information about HBCUs and HBCU students for the American public;

(I) partnering with private entities, elementary and secondary education providers, and other stakeholders to build a pipeline for students that may be interested in attending HBCUs, facilitate HBCU modernization, address college affordability, and promote degree attainment;

(J) addressing efforts to promote student success and retention, including college affordability, degree attainment, campus modernization and infrastructure improvements, and the development of a student recognition program for high-achieving HBCU students;

(K) encouraging the development of highly qualified, diverse, culturally responsive educators and administrators reflective of a variety of communities and backgrounds in order to ensure that students have access to educators and administrators who celebrate, cultivate, and comprehend the lived experiences of HBCU students and effectively meet their learning, social, and emotional needs;

(L) establishing clear plans to strengthen Federal recruitment activities at HBCUs to build accessible and equitable pathways into Federal service and talent programs;

(M) meeting regularly with HBCU students, leaders, and representatives to address matters related to the Initiative's mission and functions; and

(N) hosting the National HBCU Week Conference, for HBCU executive leaders, faculty, students, alumni, supporters, and other stakeholders to share information, innovative educational tools and resources, student success models, and ideas for Federal engagement.

(c) The head of each “applicable agency,” as defined in section 3(1) of the PARTNERS Act, shall submit to the Secretary, the Executive Director, the Committee on Health, Education, Labor, and Pensions of the Senate, the Committee on Education and Labor of the House of Representatives, and the President's Board of Advisors on HBCUs (as established in section 3 of this order) an Agency Plan, not later than February 1 of each year, describing efforts to strengthen the capacity of HBCUs to participate or be eligible to participate in the programs and initiatives under the jurisdiction of such applicable agency. The Agency Plans shall meet the requirements established in section 4(d) of the PARTNERS Act.

(i) In addition, the Agency Plan shall specifically address any changes to agency policies and practices that the agency deems necessary or appropriate to ensure that barriers to participation are addressed and removed. Each Agency Plan shall include details on grant and contract funding provided to HBCUs and, where the agency deems necessary or appropriate, describe plans to address disparities in furtherance of the objectives of this order.

(ii) The Executive Director shall monitor and evaluate each agency's progress towards the goals established in its Agency Plan and shall coordinate with each agency to ensure that its Agency Plan includes measurable and action-oriented goals.

(d) There is established an Interagency Working Group, which shall be chaired by the Executive Director and composed of liaisons and representatives designated by the heads of each applicable agency as defined in the PARTNERS Act to help advance and coordinate the work required by this order. Additional members of the Interagency Working Group shall include senior officials from the Office of the Vice President, the White House Domestic Policy Council, the White House Gender Policy Council, the Office of Management and Budget, the White House Office of Science and Technology Policy, the White House Office of Public Engagement, and representatives of other components of the Executive Office of the President, as the Executive Director, in consultation with the Secretary and the Assistant to the President and Director of the White House Office of Public Engagement, considers appropriate. The Interagency Working Group shall collaborate regarding resources and opportunities available across the Federal Government to increase educational equity and opportunities for HBCUs. The Executive Director may establish subgroups of the Interagency Working Group.

(e) The Department shall provide funding and administrative support for the Initiative and the Interagency Working Group, to the extent permitted by law and within existing appropriations. To the extent permitted by law, including the Economy Act (31 U.S.C. 1535), and subject to the availability of appropriations, other agencies and offices represented on the Interagency Working Group may detail personnel to the Initiative, to assist the Department in meeting the objectives of this order.

(f) To advance shared priorities and policies that advance equity and economic opportunity for underserved communities, the Initiative shall collaborate and coordinate with other White House Initiatives related to equity and economic opportunity.

(g) On an annual basis, the Executive Director shall report to the President through the Secretary, with the support and consultation of the Assistant to the President and Director of the White House Office of Public Engagement as appropriate, on the Initiative's progress in carrying out its mission and function under this order.

Sec. 3. President's Board of Advisors on Historically Black Colleges and Universities. (a) There is established in the Department the President's Board of Advisors on Historically Black Colleges and Universities (Board). The Board shall fulfill the mission and functions established in section 5(c) of the PARTNERS Act. The Board shall include sitting HBCU presidents as well as leaders from a variety of sectors, including education, philanthropy, business, finance, entrepreneurship, innovation, science and technology, and private foundations.

(b) The President shall designate one member of the Board to serve as its Chair, and may designate another member of the Board to serve as Vice Chair. The Department shall provide funding and administrative support for the Board to the extent permitted by law and within existing appropriations.

(c) The Board shall be composed of not more than 21 members appointed by the President. The Secretary of Education and Executive Director of the Initiative or their designees shall serve as ex officio members.

(d) Insofar as the Federal Advisory Committee Act, as amended (5 U.S.C. App.), may apply to the Board, any functions of the President under that Act, except that of reporting to the Congress, shall be performed by the Chair, in accordance with guidelines issued by the Administrator of General Services.

(e) Members of the Board shall serve without compensation, but may receive travel expenses, including per diem in lieu of subsistence, as authorized by law for persons serving intermittently in the Government service (5 U.S.C. 5701-5707).

Sec. 4. Administrative Provisions. (a) This order supersedes Executive Order 13779 of February 28, 2017 (White House Initiative To Promote Excellence and Innovation at Historically Black Colleges and Universities), which is hereby revoked. To the extent that there are other Executive Orders that may conflict with or overlap with the provisions in this order, the provisions in this order supersede those prior Executive Orders on these subjects.

(b) As used in this order, the terms “Historically Black Colleges and Universities” and “HBCUs” shall mean those institutions listed in 34 C.F.R. 608.2.

(c) The heads of executive departments and agencies shall assist and provide information to the Initiative and Board established in this order, consistent with applicable law, as may be necessary to carry out the functions of the Initiative and the Board.

(d) Each executive department and agency shall bear its own expenses of participating in the Initiative established in this order.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 3, 2021.

[FR Doc. 2021-19579

Filed 9-8-21; 8:45 am]

Billing code 3295-F1-P